DEPARTMENT OF HEALTH AND HUMAN SERVICES

National Institutes of Health

Center for Scientific Review; Amended Notice of Meeting

Notice is hereby given of a change in the meeting of the Center for Scientific Review Special Emphasis Panel, March 12, 2007, 2 p.m. to March 12, 2007, 4:30 p.m., National Institutes of Health, 6701 Rockledge Drive, Bethesda, MD 20892 which was published in the Federal Register on February 14, 2007, 72 FR 7055-7057.

The meeting will be held March 26, 2007, from 12 p.m. to 3 p.m. The meeting location remains the same. The meeting is closed to the public.

Dated: February 22, 2007.
Anna Snouffer,
Acting Director, Office of Federal Advisory Committee Policy.

[FR Doc. 07-967 Filed 3-1-07; 8:45 am]

BILLING CODE 4140-01-M